ENVIRONMENTAL PROTECTION AGENCY

40 CFR Part 52

[EPA-R09-OAR-2010-0906; FRL-9227-1]

Revisions to the California State Implementation Plan, California Air Resources Board—Consumer Products

AGENCY: Environmental Protection Agency (EPA).

ACTION: Proposed rule.

SUMMARY: EPA is proposing to approve revisions to the California Air Resources Board portion of the California State Implementation Plan (SIP). These revisions concern volatile organic compound (VOC) emissions from consumer products. We are approving a local rule that regulates these emission sources under the Clean Air Act as amended in 1990 (CAA or the Act). We are taking comments on this proposal and plan to follow with a final action.

DATES: Any comments must arrive by December 16, 2010.

ADDRESSES: Submit comments, identified by docket number EPA-R09-OAR-2010-0906, by one of the following methods: Federal eRulemaking Portal: http://www.regulations.gov. Follow the on-line instructions.

1. E-mail: steckel.andrew@epa.gov.

2. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us” and “our” refer to EPA.

Table of Contents

I. The State's Submittal

A. What rule did the State submit?

B. Are there other versions of this rule?

C. What is the purpose of the submitted rule revision?

II. EPA's Evaluation and Action

A. How is EPA evaluating the rule?

B. Does the rule meet the evaluation criteria?

C. Public Comment and Final Action

III. Statutory and Executive Order Reviews

I. The State's Submittal

A. What rule did the State submit?

Table 1 lists the rule addressed by this proposal with the date that it was adopted by the State and submitted by the California Air Resources Board (CARB).

Table 1—Submitted Rule
Regulation | Regulation title | Amended | Submitted
California Code of Regulations, Title 17, Division 3, Chapter 1, Subchapter 8.5—Consumer Products | Article 2—Consumer Products. | 05/05/09 | 02/16/10

On May 25, 2010, EPA determined that the submittal for the California Code of Regulations, Title 17, Division 3, Chapter 1, Subchapter 8.5, Article 2—Consumer Products, met the completeness criteria in 40 CFR Part 51, Appendix V, which must be met before formal EPA review.

B. Are there other versions of this rule?

We approved an earlier version of Article 2 of CARB's Consumer Products regulation into the SIP on November 4, 2009 (74 FR 57074). CARB adopted revisions to the SIP-approved version on May 5, 2009 and submitted them to us on February 16, 2010.

C. What is the purpose of the submitted rule revisions?

VOCs help produce ground-level ozone and smog, which harm human health and the environment. Section 110(a) of the CAA requires States to submit regulations that control VOC emissions.

The California Health and Safety Code (Section 41712(b)) requires CARB to adopt regulations to achieve the maximum feasible reduction in volatile organic compounds emitted by consumer products if the state board determines:

(1) The regulations are necessary to attain state and federal ambient air quality standards.

(2) The regulations are commercially and technologically feasible and necessary.

CARB's current amendments to the consumer products regulations establish new or lower VOC limits on 19 consumer product categories. Included in these changes are limits for eight new categories (astringent/toner, fabric softener—single use dryer product, floor maintenance product, vehicle wash, odor remover/eliminator, pressurized gas duster, tire or wheel cleaner, and windshield water repellent).

The amendments clarify several definitions, impose a 0.05 grams of VOC per use limit for fabric softeners—single use dryer products, remove an exemption for personal fragrance products with 20 percent or less fragrance, prohibit the use of the toxic air contaminants methylene chloride, perchloroethylene, or trichloroethylene in certain product categories, prohibit the use of compounds with a global warming potential (GWP) of 150 or greater in pressurized gas dusters, and establish a 25 percent by weight VOC limit for multipurpose lubricants and penetrants. The 25 percent VOC limit for multipurpose lubricants and penetrants is effective December 31, 2013 and the category also includes a technology forcing second tier VOC limit of 10 percent by December 31, 2015.

CARB received many comments during the public comment period, ranging from general support for many of the amendments and suggestions for additional categories (e.g., janitorial cleaning products) to regulate, to concerns from industry about the technological difficulties posed by the revised VOC limits and effective dates for multi-purpose lubricants. CARB addressed these comments in their Final Statement of Reasons for Rulemaking.

CARB estimates these amendments, when fully implemented, will achieve VOC reductions of 5.76 tons per day, greenhouse gas emission reductions equivalent to approximately 0.20 million metric tons of carbon dioxide per year, and air toxics emission reductions of 0.2 tons per day.

EPA's technical support document (TSD) has more information about this rule.

II. EPA's Evaluation and Action

A. How is EPA evaluating the rule?

Generally, SIP rules must be enforceable (see section 110(a) of the Act), and must not relax existing requirements (see sections 110(l) and 193). California's consumer products regulation covers VOC area sources and not stationary sources.

In 1998 EPA promulgated a national rule to regulate VOC emissions from consumer products (63 FR 48831, September 11, 1998). EPA's national rule largely parallels CARB's earlier SIP-approved consumer products rule. The amendments we are proposing to approve today regulate more consumer product categories and are more stringent than EPA's national standards.

Rules, guidance and policy documents that we use to evaluate enforceability and SIP revisions include the following:

1. “Issues Relating to VOC Regulation Cutpoints, Deficiencies, and Deviations,” EPA, May 25, 1988, revised January 11, 2000 (the Bluebook).

2. State Implementation Plans, General Preamble for the Implementation of Title I of the Clean Air Act Amendments of 1990 (57 FR 13498; April 16, 1992).

3. “Guidance Document for Correcting Common VOC & Other Rule Deficiencies,” EPA Region 9, August 21, 2001 (the Little Bluebook).

4. 40 CFR 59 Subpart C, National Volatile Organic Compound Emission Standards for Consumer Products.

B. Does the rule meet the evaluation criteria?

We believe this rule is consistent with the relevant policy and guidance regarding enforceability, and SIP relaxations. CARB's Consumer Products regulation contains more stringent limits and covers more than twice the number of categories covered by EPA's national Consumer Products rule. The TSD has more information on our evaluation.

C. Public Comment and Final Action

Because EPA believes the submitted rule fulfills all relevant requirements, we are proposing to fully approve it under section 110(k)(3) of the Act. We will accept comments from the public on this proposal for the next 30 days. Unless we receive convincing new information during the comment period, we intend to publish a final approval action that will incorporate this rule into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Intergovernmental relations, Ozone, Reporting and recordkeeping requirements, Volatile organic compounds.

Authority: 42 U.S.C. 7401 et seq.

Dated: November 3, 2010.
Jared Blumenfeld,
Regional Administrator, Region IX.

[FR Doc. 2010-28820 Filed 11-15-10; 8:45 am]

BILLING CODE 6560-50-P